DEPARTMENT OF TRANSPORTATION

Federal Motor Carrier Safety Administration

[Docket ID. FMCSA-2008-0174]

Qualification of Drivers; Exemption Applications; Vision

AGENCY: Federal Motor Carrier Safety Administration (FMCSA), DOT.

ACTION: Notice of applications for exemptions; request for comments.

SUMMARY: FMCSA announces receipt of applications from 19 individuals for exemptions from the vision requirement in the Federal Motor Carrier Safety Regulations. If granted, the exemptions would enable these individuals to qualify as drivers of commercial motor vehicles (CMVs) in interstate commerce without meeting the Federal vision standard.

DATES: Comments must be received on or before August 6, 2008.

ADDRESSES: You may submit comments bearing the Federal Docket Management System (FDMS) Docket ID FMCSA-2008-0174 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgment page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://Docketsinfo.dot.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 19 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Gary R. Andersen

Mr. Andersen, age 45, has had amblyopia in his left eye since birth. The best corrected visual acuity in his right eye is 20/20 and in the left, 20/100. Following an examination in 2008, his optometrist noted, “It is my opinion that he does have sufficient vision to perform the driving tasks required to operate a commercial vehicle.” Mr. Andersen reported that he has driven straight trucks for 5 years, accumulating 250,000 miles, and tractor-trailer combinations for 10 years, accumulating 1.2 million miles. He holds a Class A Commercial Driver's License (CDL) from Nebraska. His driving record for the last 3 years shows no crashes and no convictions for moving violations in a CMV.

Mitchell L. Carman

Mr. Carman, 47, has loss of vision in his left eye due to ocular trauma sustained as a child. The visual acuity in his right eye is 20/15 and in the left, light perception. Following an examination in 2007 his optometrist noted, “In my opinion Mr. Carman has sufficient vision to perform the driving tasks required to operate a commercial vehicle.” Mr. Carman reported that he has driven straight trucks for 4 years, accumulating 40,000 miles, and tractor-trailer combinations for 27 years, accumulating 1.1 million miles. He holds a Class A CDL from Oklahoma. His driving record for the last 3 years shows no crashes and no convictions for moving violations in a CMV.

Ivory Davis

Mr. Davis, 68, has had amblyopia in his right eye since childhood. The best corrected visual acuity in his right eye is count-finger vision and in the left, 20/25. Following an examination in 2008, his optometrist noted, “Mr. Davis does have the visual abilities to drive commercial vehicles safely.” Mr. Davis reported that he has driven straight trucks for 50 years, accumulating 2 million miles. He holds a Class A CDL from Maryland. His driving record for the last 3 years shows no crashes and no convictions for moving violations in a CMV.

William S. Edginton

Mr. Edginton, 79, has loss of vision in his right eye due to a macular hole in the retina since 1998. The best corrected visual acuity in his right eye is 20/300 and in the left, 20/20. Following an examination in 2008, his optometrist noted, “It is my medical opinion that Mr. Edginton has sufficient vision to perform the driving tasks required to operate a commercial vehicle.” Mr. Edginton reported that he has driven straight trucks for 40 years, accumulating 2 million miles, and tractor-trailer combinations for 30 years, accumulating 1.2 million miles. He holds a Class A CDL from Idaho. His driving record for the last 3 years shows no crashes and no convictions for moving violations in a CMV.

Lucious J. Erwin

Mr. Erwin, 53, has had glaucoma in his right eye due to a traumatic injury sustained as a child. The best corrected visual acuity in his right eye is light perception and in the left, 20/25. Following an examination in 2008, his optometrist noted, “Based upon this medical evaluation and my professional opinion, Mr. Erwin has shown an exemplary driving record and has sufficient central and peripheral vision to operate a commercial vehicle and can recognize the colors of traffic control signs and devices.” Mr. Erwin reported that he has driven tractor-trailer combinations for 31 years, accumulating 2.5 million miles. He holds a Class A CDL from Texas. His driving record for the last 3 years shows one crash; he was cited for careless maneuvering; with no other vehicles involved, and no convictions for moving violations in a CMV.

James M. Fairman

Mr. Fairman, 62, has had amblyopia in his left eye since childhood. The best corrected visual acuity in his right eye is 20/20 and in the left, 20/80. Following an examination in 2008, his ophthalmologist noted, “In my opinion, James has sufficient vision in his right eye to perform the tasks required to operate a commercial vehicle.” Mr. Fairman reported that he has driven straight trucks for 3 years, accumulating 150,000 miles, and tractor-trailer combinations for 36 years, accumulating 2.5 million miles. He holds a Class A CDL from New Jersey. His driving record for the last 3 years shows no crashes and no convictions for moving violations in a CMV.

Kelly L. Foster

Mr. Foster, 41, has optic nerve damage in his left eye due to a traumatic injury sustained as a child. The best corrected visual acuity in his right eye is 20/20 and in the left, 20/200. Following an examination in 2008, his optometrist noted, “My opinion is that Kelly, defiantly has sufficient vision to perform any visual tasks required to operate a commercial vehicle.” Mr. Foster reported that he has driven straight trucks for 8 years, accumulating 140,000 miles, and tractor-trailer combinations for 6 years, accumulating 510,000 miles. He holds a Class A CDL from Utah. His driving record for the last 3 years shows no crashes and no convictions for moving violations in a CMV.

Donald G. Fuechslin

Mr. Fuechslin, 55, has had a prosthetic right eye since 1985. The best corrected visual acuity in his left eye is 20/15. Following an examination in 2008, his optometrist noted, “It is my professional opinion that Mr. Fuechslin has sufficient vision to drive a commercial truck without risk to himself or any else.” Mr. Fuechslin reported that he has driven straight trucks for 28 years, accumulating 139,636 miles. He holds a Class C operator's license from Pennsylvania. His driving record for the last 3 years shows no crashes and no convictions for moving violations in a CMV.

Donald W. Garner

Mr. Garner, 61, has loss of vision in his left eye due to a traumatic injury sustained at age 20. The best corrected visual acuity in his right eye is 20/20 and in the left, light perception. Following an examination in 2008, his optometrist noted, “In regards to the fact that he has been a commercial truck driver for many years, it is my medical opinion that from a vision standpoint he is capable to drive a commercial vehicle as his right eye is normal and has good vision.” Mr. Garner reported that he has driven tractor-trailer combinations for 40 years, accumulating 6 million miles. He holds a Class D operator's license from Alabama. His driving record for the last 3 years shows no crashes and one conviction for a moving violation, speeding in a CMV. He exceeded the speed limit by 8 mph.

Gary J. Hambrick

Mr. Hambrick, 52, has loss of vision in his right eye due to a traumatic injury sustained as a child. The best corrected visual acuity in his right eye is 20/200 and in the left, 20/20. Following an examination in 2008, his optometrist noted, “This is to certify that I have carefully examined Mr. Gary Hambrick, and in my professional opinion, find him to have sufficient vision to perform the driving tasks required to operate a commercial vehicle.” Mr. Hambrick reported that he has driven straight trucks for 7 years, accumulating 145,600 miles, tractor-trailer combinations for 13 years, accumulating 296,400 miles, and buses for 7 years, accumulating 73,500. He holds a Class A CDL from Georgia. His driving record for the last 3 years shows no crashes and no convictions for moving violations in a CMV.

Franklin D. Jones

Mr. Jones, 65, has complete loss of vision in his left eye due to a retinal detachment sustained as a child. The best corrected visual acuity in his right eye is 20/20. Following an examination in 2008, his optometrist noted, “In my opinion. Mr. Jones has sufficient vision to operate a commercial vehicle.” Mr. Jones reported that he has driven tractor-trailer combinations for 32 years, accumulating 4 million miles. He holds a Class A CDL from Alabama. His driving record for the last 3 years shows no crashes and one conviction for a moving violation, speeding in a CMV. He exceeded the speed limit by 15 mph.

Raymond J. Lee

Mr. Lee, 57, has had estropia in his right eye since childhood. The best corrected visual acuity in his right eye is 20/60 and in the left, 20/20. Following an examination in 2007, his optometrist noted, “I certify in my medical opinion that Raymond has sufficient vision to operate a commercial vehicle.” Mr. Lee reported that he has driven straight trucks for 8 years, accumulating 416,000 miles, and tractor-trailer combinations for 11 years, accumulating 550,000 miles. He holds a Class A CDL from Georgia. His driving record for the last 3 years shows no crashes and no convictions for moving violations in a CMV.

James T. Leek

Mr. Leek, 52, has an enucleation of his right eye due to ocular cancer. The best corrected visual acuity in his left eye is 20/15. Following an examination in 2008, his optometrist noted, “I see no reason why you should not be considered to have sufficient vision in your remaining left eye to perform the driving tasks required to operate a commercial vehicle.” Mr. Leek reported that he has driven straight trucks for 5 years, accumulating 250,000 miles, and tractor-trailer combinations for 15 years, accumulating 1.5 million miles. He holds a Class A CDL from Washington. His driving record for the last 3 years shows no crashes and no convictions for moving violations in a CMV.

Richard A. Peterson

Mr. Peterson, 51, has a prosthetic left eye due to a traumatic injury sustained as a child. The best corrected visual acuity in his right eye is 20/15. Following an examination in 2008, his optometrist noted, “In my medical opinion, Mr. Peterson has sufficient vision to perform the driving tasks required to operate a commercial vehicle.” Mr. Peterson reported that he has driven straight trucks for 32 years, accumulating 80,000 miles, and tractor-trailer combinations for 32 years, accumulating 160,000 miles. He holds a Class A CDL from Oregon. His driving record for the last 3 years shows no crashes and no convictions for moving violations in a CMV.

Philip NMI. Polcastro

Mr. Polcastro, 53, has had a prosthetic left eye since childhood. The visual acuity in his right eye is 20/20. Following an examination in 2007, his ophthalmologist noted, “Therefore. Mr. Polcastro has sufficient vision to operate a commercial vehicle.” Mr. Polcastro reported that he has driven straight trucks for 34 years, accumulating 102,000 miles, and tractor-trailer combinations for 28 years, accumulating 84,000 miles. He holds a Class A CDL from New York. His driving record for the last 3 years shows no crashes and no convictions for moving violations in a CMV.

Chad M. Quarles

Mr. Quarles, 34, has had amblyopia in his left eye since childhood. The best corrected visual acuity in his right eye is 20/20 and in the left, 20/80. Following an examination in 2008, his optometrist noted, “I feel that Mr. Quarles has sufficient vision to perform the driving tasks required to operate a commercial vehicle.” Mr. Quarles reported that he has driven straight trucks for 3 years, accumulating 58,500 miles. He holds a Class D operator's license from Alabama. His driving record for the last 3 years shows no crashes and no convictions for moving violations in a CMV.

Daniel S. Rebstad

Mr. Rebstad, 45, has had amblyopia in his left eye since childhood. The best corrected visual acuity in his right eye is 20/20 and in the left, 20/100. Following an examination in 2008, his optometrist noted, “My professional opinion is he has sufficient vision to perform the driving tasks required to operate a commercial vehicle.” Mr. Rebstad reported that he has driven tractor-trailer combinations for 14 years, accumulating 1.7 million miles. He holds a Class A CDL from Florida. His driving record for the last 3 years shows no crashes and one conviction for a moving violation in a CMV, failure to obey traffic signs.

Charles R. Sylvester

Mr. Sylvester, 51, has a prosthetic left eye due to a choroidal melanoma diagnosed in 2004. The visual acuity in his right eye is 20/20. Following an examination in 2007, his optometrist noted, “In my opinion, Mr. Sylvester has sufficient vision to perform the driving tasks required to operate a commercial vehicle.” Mr. Sylvester reported that he has driven tractor-trailer combinations for 18 years, accumulating 1.3 million miles. He holds a Class A CDL from North Carolina. His driving record for the last 3 years shows no crashes and no convictions for moving violations in a CMV.

James L. Williams

Mr. Williams, 64, has had amblyopia in his right eye since childhood. The best corrected visual acuity in his right eye is 10/100 and in the left, 20/25. Following an examination in 2008, his optometrist noted, “Therefore, it is my opinion that Mr. Williams has sufficient vision to perform the driving tasks required to operate a commercial vehicle.” Mr. Williams reported that he has driven tractor-trailer combinations for 11 years, accumulating 1.1 million miles, and buses for 1 year, accumulating 500 miles. He holds a Class A CDL from Michigan. His driving record for the last 3 years shows no crashes and one conviction for a moving violation, speeding in a CMV. He exceeded the speed limit by 10 mph.

Request for Comments

In accordance with 49 U.S.C. 31136(e) and 31315, FMCSA requests public comment from all interested persons on the exemption petitions described in this notice. The Agency will consider all comments received before the close of business August 6, 2008. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: June 27, 2008.
Larry W. Minor,
Associate Administrator for Policy and Program Development.

[FR Doc. E8-15202 Filed 7-3-08; 8:45 am]

BILLING CODE 4910-EX-P